FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue, NW, Washington, DC 20551-0001, not later than January 15, 2020.

A. Federal Reserve Bank of Kansas City (Dennis Denney, Assistant Vice President) 1 Memorial Drive, Kansas City, Missouri 64198-0001:

1. The JK Durfee Family Revocable Trust, James R. Durfee and Kimberly K. Durfee, as co-trustees, all of Sundance Wyoming; to acquire voting shares of Sundance Bankshares, Inc., and thereby indirectly acquire voting shares of Sundance State Bank, both also of Sundance, Wyoming.

Board of Governors of the Federal Reserve System, December 26, 2019.
Ann Misback,
Secretary of the Board.

[FR Doc. 2019-28279 Filed 12-31-19; 8:45 am]

BILLING CODE P